DEPARTMENT OF ENERGY

Federal Energy Regulatory Commission

Notice of Staff Attendance at Southwest Power Pool Regional Entity Trustee, Regional State Committee and Board of Directors Meetings

The Federal Energy Regulatory Commission (Commission) hereby gives notice that members of its staff may attend the meetings of the Southwest Power Pool, Inc. (SPP) Regional Entity Trustee (RE), Regional State Committee (RSC) and Board of Directors, as noted below. Their attendance is part of the Commission's ongoing outreach efforts.

All meetings will be held at the Hilton Kansas City Airport Hotel, 8801 NW 112th Street, Kansas City, MO 64153. The hotel's phone number is (816) 891-8900.

SPP RE

April 29, 2013 (8:00 a.m.-12:00 p.m.)

SPP RSC

April 29, 2013 (1:00 p.m.-5:00 p.m.)

SPP Board of Directors

April 30, 2013 (8:00 a.m.-3:00 p.m.)

The discussions may address matters at issue in the following proceedings:

Docket No. ER06-451, Southwest Power Pool, Inc.

Docket No. ER08-1419, Southwest Power Pool, Inc.

Docket No. ER09-659, Southwest Power Pool, Inc.

Docket No. ER11-4105, Southwest Power Pool, Inc.

Docket No. ER12-140, Southwest Power Pool, Inc.

Docket No. ER12-550, Southwest Power Pool, Inc.

Docket No. ER12-891, Southwest Power Pool, Inc.

Docket No. ER12-909, Southwest Power Pool, Inc.

Docket No. ER12-959, Southwester Power Pool, Inc.

Docket No. ER12-1017, Southwest Power Pool, Inc.

Docket No. ER12-1018, Southwest Power Pool, Inc.

Docket No. ER12-1179, Southwest Power Pool, Inc.

Docket No. ER12-1401, Southwest Power Pool, Inc.

Docket No. ER12-1402, Southwest Power Pool, Inc.

Docket No. ER12-1586, Southwest Power Pool, Inc.

Docket No. ER12-1772, Southwest Power Pool, Inc.

Docket No. ER12-1779, Southwest Power Pool, Inc.

Docket No. ER12-2292, Southwest Power Pool, Inc.

Docket No. ER12-2366, Southwest Power Pool, Inc.

Docket No. EL12-2, Southwest Power Pool, Inc.

Docket No. EL12-47, Southwest Power Pool, Inc.

Docket No. EL12-51, Southwest Power Pool, Inc.

Docket No. EL12-60, Southwest Power Pool, Inc., et al.

Docket No. ER12-1813, The Empire District Electric Co.

Docket No. ER12-1071, Entergy Arkansas, Inc.

Docket No. EL12-59, Golden Spread Electric Cooperative, Inc.

Docket No. ER09-548, ITC Great Plains, LLC

Docket No. ER12-480, Midwest Independent Transmission System Operator, Inc.

Docket No. ER12-1577, Midwest Independent Transmission System Operator, Inc.

Docket No. EL11-34, Midwest Independent Transmission System Operator, Inc.

Docket No. ER09-36, Prairie Wind Transmission, LLC

Docket No. ER09-35, Tallgrass Transmission, LLC

Docket No. EL12-28, Xcel Energy Services Inc., et al.

Docket No. EL13-15, Southwestern Public Service Company

Docket No. EL13-35, Southwestern Public Service Company

Docket No. ER13-301, Southwest Power Pool, Inc.

Docket No. ER13-366, Southwest Power Pool, Inc.

Docket No. ER13-367, Southwest Power Pool, Inc.

Docket No. ER13-664, Southwest Power Pool, Inc.

Docket No. ER13-989, Southwest Power Pool, Inc.

Docket No. ER13-1013, Southwest Power Pool, Inc.

Docket No. ER13-1014, Southwest Power Pool, Inc.

Docket No, ER13-1032, Southwest Power Pool, Inc.

Docket No. ER13-1061, Southwest Power Pool, Inc.

Docket No. ER13-1068, Southwest Power Pool, Inc.

Docket No. ER13-1084, Southwest Power Pool, Inc.

Docket No. ER13-1173, Southwest Power Pool, Inc.

Docket No. ER13-1264, Southwest Power Pool, Inc.

These meetings are open to the public.

For more information, contact Patrick Clarey, Office of Energy Market Regulation, Federal Energy Regulatory Commission at (317) 249-5937 or patrick.clarey@ferc.gov.

Dated: April 22, 2013.
Kimberly D. Bose,
Secretary.

[FR Doc. 2013-09985 Filed 4-26-13; 8:45 am]

BILLING CODE 6717-01-P